DEPARTMENT OF LABOR

Employment and Training Administration

[TA-W-37,964, TA-W-37,964A]

Hampton Industries, Kinston, NC; Hampton Industries Distribution Center, Snow Hill, NC; Amended Certification Regarding Eligibility To Apply for Worker Adjustment Assistance

In accordance with Section 223 of the Trade Act of 1974 (19 U.S.C. 2273) the Department of Labor issued a Notice of Certification Regarding Eligibility to Apply for Worker Adjustment Assistance on October 11, 2000, applicable to workers of Hampton Industries, Kinston, North Carolina. The notice was published in the Federal Register on November 1, 2000 (65 FR 65330).

At the request of the Company, the Department reviewed the certification for workers of the subject firm. The workers were engaged in the production of Men's and boys' woven and knit shirts. New information shows that worker separations have occurred at the subject firms' Distribution Center located in Snow Hill, North Carolina. The Snow Hill, North Carolina location provided distribution services for Hampton Industries' production facilities including Kinston, North Carolina.

Accordingly, the Department is amending the certification to cover the workers of Hampton Industries, Distribution Center, Snow Hill, North Carolina.

The intent of the Department's certification is to include all workers of Hampton Industries who were adversely affected by increased imports of men's and boys' woven and knit shirts.

The amended notice applicable to TA-W-37,964 is hereby issued as follows:

All workers of Hampton Industries, Kinston, North Carolina (TA-W-37,964) and Distribution Center, Snow Hill, North Carolina (TA-W-37,964A) who became totally or partially separated from employment on or after July 20, 1999, through October 11, 2002, are eligible to apply for adjustment assistance under Section 223 of the Trade Act of 1974.

Signed at Washington, DC, this 30th day of April, 2001.
Linda G. Poole,
Certifying Officer, Division of Trade Adjustment Assistance.

[FR Doc. 01-12566 Filed 5-17-01; 8:45 am]

BILLING CODE 4510-30-M